DEPARTMENT OF TRANSPORTATION

Federal Aviation Administration

14 CFR Part 39

[Docket No. FAA-2019-1019; Product Identifier 2018-SW-011-AD]

RIN 2120-AA64

Airworthiness Directives; Airbus Helicopters

AGENCY: Federal Aviation Administration (FAA), DOT.

ACTION: Notice of proposed rulemaking (NPRM).

SUMMARY: The FAA proposes to adopt a new airworthiness directive (AD) for Airbus Helicopters Model AS332C, AS332C1, AS332L, AS332L1, AS332L2, and EC225LP helicopters. This proposed AD would require, depending on helicopter configuration, installing skived polytetrafluoroethylene (PTFE) tape or removing skived PTFE tape and replacing the window seals. This proposed AD is prompted by a report of excessive friction between the window seal and the helicopter airframe. The actions of this proposed AD are intended to address an unsafe condition on these products.

DATES: The FAA must receive comments on this proposed AD by March 6, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2019-1019; or in person at Docket Operations between 9 a.m. and 5 p.m., Monday through Friday, except Federal holidays. The AD docket contains this proposed AD, the European Aviation Safety Agency (EASA) AD, the economic evaluation, any comments received, and other information. The street address for Docket Operations is listed above. Comments will be available in the AD docket shortly after receipt.

For service information identified in this proposed rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone 817-222-5110; email matthew.fuller@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

EASA, which is the Technical Agent for the Member States of the European Union, has issued EASA AD No. 2018-0039, dated February 9, 2018, and corrected on March 7, 2018, to correct an unsafe condition for Airbus Helicopters (formerly Eurocopter, Eurocopter France, Aerospatiale) Model AS 332 C, AS 332 C1, AS 332 L, AS 332 L1, AS 332 L2, and EC 225 LP helicopters. EASA advises of an emergency exit window that required excessive pushing force to jettison. According to EASA, an investigation revealed the window seal was in good condition with no indication of paint contamination or of hardening. EASA advises that the root cause of the incident was excessive friction between the window seal and the airframe. EASA further advises that helicopters with VIP jettisonable cabin windows, which corresponds to Modification (MOD) 332P087140.00, with PTFE skived film (tape) installed, require greater force to jettison than standard jettisonable cabin windows with PTFE skived film installed due to the thickness of the VIP jettisonable cabin windows.

EASA states if this condition is not corrected, it could prevent the window from jettisoning, subsequently affecting the evacuation of passengers during an emergency situation. To address this unsafe condition, the EASA AD requires installing PTFE skived film on the window frames of helicopters with standard jettisonable cabin windows, and removing PTFE skived film and replacing polychloroprene seals with silicone seals on the window frames of helicopters with VIP jettisonable cabin windows.

FAA's Determination

These helicopters have been approved by EASA and are approved for operation in the United States. Pursuant to the FAA's bilateral agreement with the European Union, EASA has notified the FAA of the unsafe condition described in its AD. The FAA is proposing this AD after evaluating all known relevant information and determining that an unsafe condition is likely to exist or develop on other helicopters of the same type designs.

Related Service Information Under 1 CFR Part 51

The FAA reviewed Airbus Helicopters Alert Service Bulletin (ASB) No. AS332-05.01.05 for Model AS332C, AS332C1, AS332L, AS332L1, and AS332L2 helicopters, and ASB No. EC225-05A046 for Model EC225LP helicopters, both Revision 1 and dated February 8, 2018. This service information applies to helicopters without VIP jettisonable cabin window MOD 332P087140.00 installed. This service information specifies applying PTFE skived film to the jettisonable cabin window frames.

The FAA also reviewed Airbus Helicopters ASB No. AS332-56.90.13 for Model AS332L2 helicopters, and ASB No. EC225-56C012 for Model EC225LP helicopters, both Revision 0 and dated February 2, 2018. This service information applies to helicopters with VIP jettisonable cabin window MOD 332P087140.00 installed. This service information specifies removing the PTFE skived film, if installed between the VIP cabin window frame and seal, from the VIP jettisonable cabin windows, and replacing the VIP jettisonable cabin window polychloroprene seals with silicone seals.

This service information is reasonably available because the interested parties have access to it through their normal course of business or by the means identified in the ADDRESSES section.

Other Related Service Information

The FAA reviewed Airbus Helicopters Information Notice No. 3012-I-05, Revision 0, dated March 8, 2016, for Model AS332C, AS332C1, AS332L, AS332L1, AS332L2, and EC225LP helicopters. This service information provides additional information pertaining to the jettisonable cabin window system and the application of PTFE skived film to the jettisonable window frames. This service information also advises that VIP jettisonable cabin windows are thicker and stiffer than standard design windows and are slightly more difficult to jettison than standard jettisonable cabin windows.

Proposed AD Requirements

Within 110 hours time-in-service (TIS), and thereafter each time a jettisonable cabin window is installed:

• For helicopters without MOD 332P087140.00 installed, this proposed AD would require installing skived PTFE tape to each jettisonable cabin window frame.

• For helicopters with MOD 332P087140.00 installed, this proposed AD would require removing the skived PTFE tape, if installed, from each jettisonable cabin window, and replacing each VIP jettisonable cabin window polychloroprene seal with a silicone seal.

Differences Between This Proposed AD and the EASA AD

The EASA AD allows compliance within 250 hours TIS for helicopters that do not operate over water. This proposed AD would require compliance within 110 hours TIS for all helicopters, regardless of where they operate.

Costs of Compliance

The FAA estimates that this proposed AD affects 25 helicopters of U.S. Registry. The FAA estimates that operators may incur the following costs in order to comply with this AD. Labor costs are estimated at $85 per work-hour.

Depending on your model helicopter and configuration:

• Installing skived PTFE tape would take about 8 work-hours and required materials would cost about $92, for an estimated cost of $772 per helicopter and $19,300 for the U.S. fleet.

• There are no costs of compliance with removing the skived PTFE tape and replacing the seals because there are no helicopters with a serial number identified by Airbus Helicopters with MOD 332P087140.00 installed on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska to the extent that it justifies making a regulatory distinction, and

3. Will not have a significant economic impact, positive or negative, on a substantial number of small entities under the criteria of the Regulatory Flexibility Act.

The FAA prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2019-1019; Product Identifier 2018-SW-011-AD.

(a) Applicability

This AD applies to Airbus Helicopters Model AS332C, AS332C1, AS332L, AS332L1, AS332L2, and EC225LP helicopters, certificated in any category.

(b) Unsafe Condition

This AD defines the unsafe condition as excessive friction between the jettisonable cabin window and the airframe. This condition could result in the window failing to jettison, preventing occupants from exiting the helicopter during an emergency.

(c) Comments Due Date

The FAA must receive comments by March 6, 2020.

(d) Compliance

You are responsible for performing each action required by this AD within the specified compliance time unless it has already been accomplished prior to that time.

(e) Required Actions

Within 110 hours time-in-service:

(1) For Model AS332C, AS332C1, AS332L, and AS332L1 helicopters; and Model AS332L2 and EC225LP helicopters without Modification (MOD) 332P087140.00 installed, install skived polytetrafluoroethylene (PTFE) tape to each jettisonable cabin window frame by following the Accomplishment Instructions, paragraph 3.B.2., of Airbus Helicopters Alert Service Bulletin (ASB) No. AS332-05.01.05 or ASB No. EC225-05A046, both Revision 1 and dated February 8, 2018, as applicable to your model helicopter.

(2) For Model AS332L2 and EC225LP helicopters with MOD 332P087140.00 installed:

Note 1 to paragraph (e)(2) of this AD: Airbus Helicopters has identified the following helicopters as having MOD 332P087140.00 installed: Model AS332L2 serial numbers (S/Ns) 2388, 2390, 2565, 2573, 2577, 2578, and 2587; and Model EC225LP S/Ns 2600, 2623, 2645, 2650, 2651, 2653, 2659, 2684, 2693, 2711, 2712, 2719, 2753, 2756, 2767, 2796, 2926, 2961, 2973, 2974, 2979, 3002, 3003, and 3012.

(i) Remove the skived PTFE tape, if installed between the VIP cabin window frame and seal, from each jettisonable cabin window by following the Accomplishment Instructions, paragraph 3.B.2., of Airbus Helicopters ASB No. AS332-56.90.13 (ASB AS332-56.90.13) or ASB No. EC225-56C012 (ASB EC225-56C012), both Revision 0 and dated February 8, 2018, as applicable to your model helicopter.

(ii) Replace each VIP jettisonable cabin window polychloroprene seal with a silicone seal by following the Accomplishment Instructions, paragraph 3.B.3., of ASB AS332-56.90.13 or ASB EC225-56C012, as applicable to your model helicopter.

(3) After the effective date of this AD, do not install a jettisonable cabin window unless you comply with the requirements of paragraph (e)(1) or (e)(2) of this AD, as applicable to your model helicopter and configuration.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

(1) Airbus Helicopters Information Notice No. 3012-I-05, Revision 0, dated March 8, 2016, which is not incorporated by reference, contains additional information about the subject of this AD. For service information identified in this AD, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

(2) The subject of this AD is addressed in European Aviation Safety Agency (EASA) AD No. 2018-0039, dated February 9, 2018, and corrected on March 7, 2018. You may view the EASA AD on the internet at https://www.regulations.gov in the AD Docket.

(h) Subject

Joint Aircraft Service Component (JASC) Code: 5220, Emergency Exits.

Issued in Fort Worth, Texas, on December 27, 2019.
Lance T. Gant,
Director, Compliance & Airworthiness Division, Aircraft Certification Service.

[FR Doc. 2019-28354 Filed 1-3-20; 8:45 am]

BILLING CODE 4910-13-P